ENVIRONMENTAL PROTECTION AGENCY

[EPA-HQ-OPP-2006-0081; FRL-7769-8]

2006 Tribal Pesticide and Special Projects; Request for Proposals

AGENCY: Environmental Protection Agency (EPA).

ACTION: Notice.

SUMMARY: EPA's Office of Pesticide Programs (OPP), in coordination with the EPA regional offices, is soliciting pesticide and special project proposals from eligible tribes, Alaska native villages, and intertribal consortia for fiscal year (FY) 2006 funding. Under this program, cooperative agreement awards will provide financial assistance to eligible tribal governments, Alaska native village governments, or intertribal consortia to carry out projects that assess or reduce risks to human health and the environment from pesticide exposure. The total amount of funding available for award in FY 2006 is expected to be approximately $400,000, with a maximum funding level of $50,000 per project.

DATES: Proposals must be postmarked on or before August 7, 2006.

FOR FURTHER INFORMATION CONTACT: Ron Kendall, Office of Pesticide Programs (7506P), Tribal Grants Coordinator, Environmental Protection Agency, 1200 Pennsylvania Ave., NW., Washington, DC 20460-0001; telephone number: (703) 305-5561; e-mail: kendall.ron@epa.gov.

SUPPLEMENTARY INFORMATION:

I. General Information

A. Does this Action Apply to Me?

Potentially affected entities include federally recognized Tribal governments, federally recognized Alaska native villages, or any intertribal consortium. Only one project proposal from each tribal government or intertribal consortium will be considered for funding. If you have any questions regarding the applicability of this action to a particular entity, consult the person listed under FOR FURTHER INFORMATION CONTACT.

B. How Can I Get Copies of this Document and Other Related Documents?

1. Docket. EPA has established a docket for this action under docket identification (ID) number EPA-HQ-OPP-2006-0081. Publicly available docket materials are available in the electronic docket at http://www.regulations.gov, or, if only available in hard copy, at the OPP Regulatory Public Docket in Rm. S-4400, One Potomac Yard (South Building), 2777 S. Crystal Drive, Arlington VA. This docket facility is open from 8:30 a.m. to 4 p.m., Monday through Friday, excluding legal holidays. The docket telephone number is (703) 305-5805.

2. Electronic access. You may obtain electronic copies of this document through the EPA Internet under the “Federal Register” listings at http://www.epa.gov/fedrgstr/.

You may access the full text of the grant announcement at http://www.epa.gov/pesticides/grants/index.htm. Go to http://www.grants.gov to electronically find and apply for competitive grant opportunities from all Federal grant-making agencies. Grants.gov is the single access point for over 1,000 grant programs offered by the 26 Federal grant-making agencies.

II. Overview

The following list provides key information concerning this funding opportunity:

• Federal agency name: Environmental Protection Agency.

• Funding opportunity title: Tribal Pesticide and Special Projects; Request for Proposals.

• Funding opportunity number: EPA-OPP-06-001.

• Announcement type: Announcement of a funding opportunity.

• Catalog of Federal Domestic Assistance (CFDA) number: 66.716.

• Dates: Proposals must be postmarked on or before August 7, 2006.

For detailed information concerning the grant announcement refer to the Agency website at http://www.epa.gov/pesticides/grants/index.htm. The full text of the grant announcement includes specific information regarding the: Purpose and scope; activities to be funded; award information; eligibility requirements; application and submission information; award review information; and regional agency contacts if applicable.

List of Subjects

Environmental protection, Pesticides.

Dated: June 7, 2006.
Susan B. Hazen,
Acting Assistant Administrator, Office of Prevention, Pesticides and Toxic Substances.

[FR Doc. E6-9751 Filed 6-20-06; 8:45 am]

BILLING CODE 6560-50-S